DEPARTMENT OF LABOR

Employment and Training Administration

Agency Information Collection Activities; Comment Request; Meritorious Registered Apprenticeship Recognition Program (MRARP)

ACTION: Notice.

SUMMARY: The Department of Labor's (DOL) Employment and Training Administration (ETA) is soliciting comments concerning a proposed extension for the authority to conduct the information collection request (ICR) titled, “Meritorious Registered Apprenticeship Recognition Program (MRARP).” This comment request is part of continuing Departmental efforts to reduce paperwork and respondent burden in accordance with the Paperwork Reduction Act of 1995 (PRA).

DATES: Consideration will be given to all written comments received by August 26, 2024.

ADDRESSES: A copy of this ICR with applicable supporting documentation, including a description of the likely respondents, proposed frequency of response, and estimated total burden, may be obtained free by contacting Stephen Sage, U.S. Department of Labor/Office of Apprenticeship, Division of Standards and Quality, Program Analyst, by telephone at 202-693-3221 (this is not a toll-free number). For persons with a hearing or speech disability who need assistance to use the telephone system, please dial 711 to access telecommunications relay services.

Submit written comments about, or requests for a copy of, this ICR by mail or courier to the U.S. Department of Labor, Office of Apprenticeships, 200 Constitution Ave NW, Washington, DC; by email: sage.stephen@dol.gov.

FOR FURTHER INFORMATION CONTACT: Stephen Sage by telephone at 202-693-3221 (this is not a toll-free number) or by email at sage.stephen@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The Office of Apprenticeship (OA) wants to acknowledge existing Registered Apprenticeship (RA) programs that distinguish themselves by aligning their operations with the objectives of the Department of Labor's Good Jobs Principles and the Secretary's Advisory Committee on Apprenticeship (ACA). To identify these programs, OA will launch a marketing campaign to encourage program sponsors to apply for this annual recognition. Applicants will complete a web-based application to demonstrate how their RA program performs in the following areas:

• Leadership and internal policies around Equity and Opportunity;

• Recruitment and Hiring Practices;

• Strategic Partnerships—how they are developed to help implement RAs and promote Equity and Opportunity;

• Promoting RAs in the community;

• Quality Employment Opportunities—how does the RA create a quality employment opportunity through wage progression, providing skills and career advancement and supportive services and a positive work culture.

In addition, applicants will be asked to provide graduation rates for the program. Applicants' answers will be reviewed against a scoring rubric to identify those RA programs that demonstrate outstanding service to apprentices, program administration and industry engagement and the use of innovative practices and strategies to elevate RA as a model for workforce development. Those who meet all the criteria will receive the Meritorious Registered Apprenticeship Recognition. The National Apprenticeship Act of 1937 (29 U.S.C § 50) authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control No. 1205-0NEW.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL—ETA.

Type of Review: New.

Title of Collection: Meritorious Registered Apprenticeship Recognition Program.

Form: Meritorious Registered Apprenticeship Recognition Program Information.

OMB Control Number: 1205-0NEW.

Affected Public: Private Sector.

Estimated Number of Respondents: 250.

Frequency: Annually.

Total Estimated Annual Responses: 250.

Estimated Average Time per Response: 1.5 hours.

Estimated Total Annual Burden Hours: 500 hours.

Total Estimated Annual Other Cost Burden: $0.

José Javier Rodríguez,
Assistant Secretary for Employment and Training, Labor.

[FR Doc. 2024-14038 Filed 6-26-24; 8:45 am]

BILLING CODE 4510-FN-P